DEPARTMENT OF TRANSPORTATION

Federal Aviation Administration

14 CFR Part 39

[Docket No. FAA-2015-1177; Directorate Identifier 2015-CE-009-AD]

RIN 2120-AA64

Airworthiness Directives; Pilatus Aircraft LTD. Airplanes

AGENCY: Federal Aviation Administration (FAA), Department of Transportation (DOT).

ACTION: Notice of proposed rulemaking (NPRM).

SUMMARY: We propose to adopt a new airworthiness directive (AD) for Pilatus Aircraft Ltd. Model PC-12/47 and PC-12/47E airplanes. This proposed AD results from mandatory continuing airworthiness information (MCAI) originated by an aviation authority of another country to identify and correct an unsafe condition on an aviation product. The MCAI describes the unsafe condition as the aileron trim tab disconnecting above 10,000 feet altitude. We are issuing this proposed AD to require actions to address the unsafe condition on these products.

DATES: We must receive comments on this proposed AD by June 15, 2015.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Pilatus Aircraft Ltd, Customer Support Manager, CH-6371 STANS, Switzerland; phone: +41 (0)41 619 33 33; fax: +41 (0)41 619 73 11; email: SupportPC12@pilatus-aircraft.com; Internet: http://www.pilatus-aircraft.com. You may review this referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2015-1177; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Doug Rudolph, Aerospace Engineer, FAA, Small Airplane Directorate, 901 Locust, Room 301, Kansas City, Missouri 64106; telephone: (816) 329-4059; fax: (816) 329-4090; email: doug.rudolph@faa.gov.

SUPPLEMENTARY INFORMATION:

Comments Invited

We invite you to send any written relevant data, views, or arguments about this proposed AD. Send your comments to an address listed under the ADDRESSES section. Include “Docket No. FAA-2015-1177; Directorate Identifier 2015-CE-009-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

The European Aviation Safety Agency (EASA), which is the Technical Agent for the Member States of the European Community, has issued AD No.: 2015-0060, dated April 10, 2015 (referred to after this as “the MCAI”), to correct an unsafe condition for the specified products. The MCAI states:

During a continued airworthiness review, a potential unsafe condition was identified that could result from a disconnected aileron trim tab occurring above an altitude of 10.000 feet.

This condition, if not corrected, could lead, in case of a disconnection of an aileron trim tab, to undamped aeroplane vibrations, potentially resulting in structural failure.

To address this potential unsafe condition, Pilatus Aircraft Ltd. issued SB No. 27-021 to provide instructions for replacement of the aileron tab counter balance weight.

For the reason described above, this AD requires replacement of the aileron tab counter balance weight with a new, slightly heavier, aileron tab counter balance weight.

You may examine the MCAI on the Internet at http://www.regulations.gov by searching for and locating Docket No. FAA-2015-1177.

Related Service Information Under 1 CFR Part 51

Pilatus Aircraft Ltd. has issued PILATUS PC-12 Service Bulletin No: 27-021, dated January 20, 2015. The PILATUS PC-12 Service Bulletin No: 27-021, dated January 20, 2015, describes procedures to replace the aileron tab counter balance weight. This service information is reasonably available because the interested parties have access to it through their normal course of business or by the means identified in the ADDRESSES section of this NPRM.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 303 products of U.S. registry. We also estimate that it would take about 5.5 work-hours per product to comply with the basic requirements of this proposed AD. The average labor rate is $85 per work-hour. Required parts would cost about $1,000 per product.

Based on these figures, we estimate the cost of the proposed AD on U.S. operators to be $444,652.50, or $1,467.50 per product.

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Pilatus Aircraft Ltd.: Docket No. FAA-2015-1177; Directorate Identifier 2015-CE-009-AD.

(a) Comments Due Date

We must receive comments by June 15, 2015.

(b) Affected ADs

None.

(c) Applicability

This AD applies to the following Pilatus Aircraft Ltd. model and serial number airplanes, certificated in any category.

(1) Model PC-12/47, manufacturer serial numbers (MSNs) 684 through MSN 888; and

(2) Model PC-12/47E, MSNs 545, and 1001 through 1520.

(d) Subject

Air Transport Association of America (ATA) Code 27: Flight Controls.

(e) Reason

This AD was prompted by mandatory continuing airworthiness information (MCAI) originated by an aviation authority of another country to identify and correct an unsafe condition on an aviation product. The MCAI describes the unsafe condition as the aileron trim tab disconnecting above 10,000 feet altitude. We are issuing this AD to prevent a disconnected aileron trim tab, which could lead to undamped airplane vibrations, potentially resulting in structural failure.

(f) Actions and Compliance

Unless already done, do the following actions:

(1) For airplanes equipped with aileron trim tab assembly, part number (P/N) 527.15.12.037 or 527.15.12.038; or aileron assembly, P/N 557.05.12.015, 557.05.12.016, 557.05.12.017, or 557.05.12.018, within 12 months after the effective date of this AD, replace the aileron tab counter balance weight and re-identify the aileron trim tab assembly following the instructions of Pilatus PC-12 Service Bulletin No: 27-021, dated January 20, 2015.

(2) For an airplane that on the effective date of this AD has an aileron trim tab assembly, P/N 27.15.12.037 or 527.15.12.038, installed: After modification of that airplane as required by paragraph (f)(1) of this AD, do not install another aileron trim tab assembly with P/N 527.15.12.037 or 527.15.12.038.

(3) For an airplane that on the effective date of this AD does not have an aileron trim tab assembly, P/N 27.15.12.037 or 527.15.12.038, installed: After the effective date of this AD, do not install an aileron trim tab assembly with P/N 527.15.12.037 or 527.15.12.038.

(4) After the effective date of this AD, you are allowed to install on an airplane an aileron assembly, having a P/N 557.05.12.015, 557.05.12.016, 557.05.12.017, or 557.05.12.018, provided that an aileron trim tab assembly, P/N 527.15.12.037 or 527.15.12.038 is not installed on the airplane.

(g) Other FAA AD Provisions

The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Directorate, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No.: 2015-0060, dated April 10, 2015, for related information. You may examine the MCAI on the Internet at http://www.regulations.gov by searching for and locating Docket No. FAA-2015-1177. For service information related to this AD, contact PILATUS AIRCRAFT LTD, Customer Support Manager, CH-6371 STANS, Switzerland; phone: +41 (0)41 619 33 33; fax: +41 (0)41 619 73 11; email: SupportPC12@pilatus-aircraft.com; Internet: http://www.pilatus-aircraft.com. You may review this referenced service information at the FAA, Small Airplane Directorate, 901 Locust, Kansas City, Missouri 64106. For information on the availability of this material at the FAA, call (816) 329-4148.

Issued in Kansas City, Missouri, on April 23, 2015.
Earl Lawrence,
Manager, Small Airplane Directorate, Aircraft Certification Service.

[FR Doc. 2015-10073 Filed 4-30-15; 8:45 am]

BILLING CODE 4910-13-P